DEPARTMENT OF COMMERCE

International Trade Administration

[A-485-803]

Cut-to-Length Carbon Steel Plate From Romania; Notice of Rescission of Antidumping Duty Administrative Review

AGENCY: Import Administration, International Trade Administration, Department of Commerce.

ACTION: Notice of rescission of the antidumping duty administrative review for the period August 1, 1999 through July 31, 2000.

SUMMARY: On October 2, 2000, in response to a request made by Bethlehem Steel Corporation and U.S. Steel Group, a unit of USX Corporation (collectively, petitioners), the Department of Commerce (the Department) published a notice of initiation of antidumping duty administrative review of cut-to-length carbon steel plate from Romania, for the period August 1, 1999 through July 31, 2000. Because the petitioners have withdrawn the only request for review, the Department is rescinding this review in accordance with 19 CFR 351.213(d)(1).

EFFECTIVE DATE: November 20, 2000.

FOR FURTHER INFORMATION CONTACT: Fred Baker or Robert James, Enforcement Group III, Office 8, Import Administration, International Trade Administration, U.S. Department of Commerce, 14th Street and Constitution Avenue, N.W., Washington, D.C. 20230; telephone (202) 482-2924 and (202) 482-0649, respectively.

SUPPLEMENTARY INFORMATION:

Applicable Statute and Regulations

Unless otherwise indicated, all citations to the Tariff Act of 1930, as amended (the Tariff Act), are references to the provisions effective January 1, 1995, the effective date of the Uruguay Round Agreements Act. In addition, unless otherwise indicated, all citations to the Department's regulations are to the regulations codified at 19 CFR Part 351 (2000).

Background

On August 31, 2000, petitioners requested that the Department conduct an administrative review for the period August 1, 1999 through July 31, 2000 of Sidex, S.A., a producer of the subject merchandise, Metalexportimport, S.A., and Windmill International PTE, Ltd., exporters of the subject merchandise. There were no other requests for review. On October 2, 2000, the Department published a notice of initiation of antidumping duty administrative review of cut-to-length carbon steel plate from Romania, in accordance with 19 CFR 351.221(c)(1)(i). See Initiation of Antidumping and Countervailing Duty Administrative Reviews and Requests for Revocation in Part, 65 FR 58733 (October 2, 2000). On October 3, 2000, petitioners withdrew their request for review.

Rescission of Review

Pursuant to Departmental regulations, the Department will rescind an administrative review “if a party that requested the review withdraws the request within 90 days of the date of publication of notice of initiation of the requested review.” See 19 CFR 351.213(d)(1). The petitioners' withdrawal of their request for review was within the 90-day time limit; accordingly, we are rescinding the administrative review for the period August 1, 1999 through July 31, 2000, and will issue appropriate assessment instructions to the U.S. Customs Service.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation. This determination is issued and published in accordance with 19 CFR 351.213(d)(4) and sections 751(a)(1) and 777(i)(1) of the Tariff Act.

Dated: November 9, 2000.
Joseph A. Spetrini,
Deputy Assistant Secretary, Enforcement Group III.

[FR Doc. 00-29631 Filed 11-20-00; 8:45 am]

BILLING CODE 3510-DS-P